DEPARTMENT OF AGRICULTURE

Forest Service

Naches Ranger District, Okanogan-Wenatchee National Forest; Minor Pacific Crest National Scenic Trail Relocation

AGENCY: Forest Service, USDA.

ACTION: Notice.

SUMMARY: A minor relocation (approximately 2,000 feet) will occur on the Pacific Crest National Scenic Trail (PCNST) in 2009. The trail will be re-routed from its current location within the White Pass Ski Area south to the Wilderness boundary on the edge of the expansion area with the purpose of maintaining a quality, uninterrupted backcountry experience for PCNST users and to minimize their views of ski area structures and facilities. All activities were analyzed in the White Pass Expansion Master Development Plan Proposal Final Environmental Impact Statement and documented in the June 2007 Record of Decision. Relocation will begin in July 2009 and is expected to be completed by fall 2009. Trail relocation will be done in conjunction with the Pacific Crest Trail Association.

FOR FURTHER INFORMATION CONTACT: Direct questions regarding this trail relocation to Randall Shepard, Naches District Ranger, USDA, Okanogan-Wenatchee National Forest, 10237 US Highway 12, Naches, WA 98937, 509-653-1415.

Dated: July 8, 2009.
Randall D. Shepard,
Naches District Ranger, Okanogan-Wenatchee National Forest.

[FR Doc. E9-16649 Filed 7-13-09; 8:45 am]

BILLING CODE 3410-11-P